DEPARTMENT OF HEALTH AND HUMAN SERVICES

Centers for Medicare & Medicaid Services

[Document Identifier: CMS-18F5 and CMS-287-22]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by September 30, 2024.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), Federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a currently approved collection; Title of Information Collection: Application for Enrollment in Medicare Part A internet Claim (iClaim) Application Screen Modernized Claims System and Consolidated Claim Experience Screens; Use: The Centers for Medicare and Medicaid Services (CMS) Form “Application for Hospital Insurance” supports sections 1818 and 1818A of the Social Security Act (the Act) and corresponding regulations at 42 CFR 406.6 and 406.7.

The CMS-18-F5 is used to establish entitlement to Part A and enrollment in Part B for claimants who must file an application. The application follows the questions and requirements used by SSA on the electronic application. This is done not only for consistency purposes but because certain requirements under titles II and XVIII of the act must be met in order to qualify for Part A and Part B; including insured status, relationship and residency. The form is owned by CMS but is not utilized by CMS staff. SSA uses the form to collect information and make Part A and Part B entitlement determinations on behalf of CMS. Form Number: CMS-18F5 (OMB control number: 0938-0251); Frequency: Once; Affected Public: Individuals and Households; Number of Respondents: 1,042,263; Total Annual Responses: 1,042,263; Total Annual Hours: 260,566. (For policy questions regarding this collection contact Carla Patterson at 410-786-8911 or Carla.Patterson@cms.hhs.gov).

2. Type of Information Collection Request: Extension without change of a previously approved collection; Title of Information Collection: Home Office Cost Statement; Use: A home office/chain organization (HO/CO) submits the home office cost statement annually as the documentary support required for a provider that is a member of the HO/CO to be reimbursed for HO/CO costs claimed in the provider's cost report (see 42 CFR 413.24(f)(5)(i)(E)(1) and (2)).

The relationship of the HO/CO is that of a related organization to a provider (see 42 CFR 413.17). A HO/CO usually furnishes central management and administrative services, e.g., centralized accounting, purchasing, personnel services, management direction and control, and other services. To the extent that the HO/CO furnishes services related to patient care to a provider, the reasonable costs of such services are included in the provider's cost report and are reimbursable as part of the provider's costs.

CMS requires the form to determine a HO/CO's reasonable cost incurred in furnishing management and administrative services to Medicare providers, each of which includes the costs in their cost report for reimbursement. A Medicare-certified provider includes costs allocated from the home office cost statement in the provider's costs used by CMS for rate setting; payment refinement activities, including developing a market basket; and Medicare Trust Fund projections; and to support program operations. Additionally, the Medicare Payment Advisory Commission (MedPAC) uses the cost report data to calculate Medicare margins (a measure of the relationship between Medicare's payments and providers' Medicare costs) and analyze data to formulate Medicare Program recommendations to Congress. Form Number: CMS-287-22 (OMB control number: 0938-0202); Frequency: Yearly; Affected Public: Private Sector; Business or other for-profits, Not-for-profit institutions; Number of Respondents: 1,646; Total Annual Responses: 1,646; Total Annual Hours: 767,036. (For policy questions regarding this collection contact Gail S. Duncan at (410) 786-7278.)

William N. Parham, III,
Director, Division of Information Collections and Regulatory Impacts, Office of Strategic Operations and Regulatory Affairs.

[FR Doc. 2024-19404 Filed 8-28-24; 8:45 am]

BILLING CODE 4120-01-P